DEPARTMENT OF THE INTERIOR

National Park Service

[NPS-WASO-NRNHL-21832; PPWOCRADI0, PCU00RP14.R50000]

National Register of Historic Places; Notification of Pending Nominations and Related Actions

AGENCY: National Park Service, Interior.

ACTION: Notice.

SUMMARY: The National Park Service is soliciting comments on the significance of properties nominated before August 20, 2016, for listing or related actions in the National Register of Historic Places.

DATES: Comments should be submitted by October 4, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before August 20, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

General Sales Company Warehouse, 515 E. Grant St., Phoenix, 16000681

ARKANSAS

Pulaski County

Stebbins and Roberts Office Building and Factory, 1300 E. 6th St., Little Rock, 16000682

DISTRICT OF COLUMBIA

District of Columbia

Davidson Building, 927 15th St. NW., Washington, 16000683

Kelsey Temple Church of God in Christ, 1435-1437 Park Rd. NW., Washington, 16000684

Saul, B.F., Building, 925 15th St. NW., Washington, 16000685

GEORGIA

Chatham County

Weil, Edgar A., House, 802 14th St., Tybee Island, 16000686

IOWA

Polk County

Polk County Homestead and Trust Company Addition Historic District (Towards a Greater Des Moines MPS), Both sides of 7th & 8th Sts., S. of Franklin & N. of College Aves., Des Moines, 16000687

Washington County

Woodlawn Cemetery Gates and Shelter, 501 W. Adams, Washington, 16000688

Woodbury County

Lewis System Armored Car and Detective Service Building, 700 Nebraska St., Sioux City, 16000689

MASSACHUSETTS

Berkshire County

Boston Finishing Works, 160 Water St., Williamstown, 16000690

NEW JERSEY

Hunterdon County

Raven Rock Road Bridge (Bridges of Delaware Township, Hunterdon County, New Jersey MPS), Rosemont-Raven Rock Rd., Delaware Township, 16000691

Stone Sign Post Road Bridge over Plum Brook (Bridges of Delaware Township, Hunterdon County, New Jersey MPS), Stone Sign Post Rd., Delaware Township, 16000692

Strimple's Mill Road Bridge over Lockatong Creek (Bridges of Delaware Township, Hunterdon County, New Jersey MPS), Strimple's Mill Rd., Delaware Township, 16000693

NEW YORK

Erie County

Prospect Hill Historic District, Columbus Pkwy., Columbus Park W., Busti & Rhode Island Aves., Niagara & Vermont Sts., Buffalo, 16000694

Nassau County

Church of Our Lady of Kazan, 2 Willow Shore Ave., Sea Cliff, 16000695

PENNSYLVANIA

Allegheny County

St. Thomas Memorial Church, 378 Delaware Ave., Oakmont Borough, 16000696

Butler County

Harmony Mennonite Meetinghouse and Cemetery, 114 Wise Rd., Jackson Township, 16000697

VIRGIN ISLANDS

St. Croix County

St. John's Episcopal Church, Plot #27 King St., Christiansted, 16000698

St. John County

Cruz Bay Town Historic District, Town boundary, Cruz Bay, 16000699

Authority: 60.13 of 36 CFR part 60.

Dated: August 24, 2016.
J. Paul Loether,
Chief, National Register of Historic Places/National Historic Landmarks Program.

[FR Doc. 2016-22439 Filed 9-16-16; 8:45 am]

BILLING CODE 4312-51-P